DEPARTMENT OF COMMERCE

National Oceanic and Atmospheric Administration

15 CFR Part 960

[Docket No. 951031259-9279-03]

RIN 0648-AC64

Licensing of Private Land Remote-Sensing Space Systems

AGENCY: National Oceanic and Atmospheric Administration, Commerce.

ACTION: Interim final rule: extension of comment period.

SUMMARY: On July 31, 2000, The National Oceanic and Atmospheric Administration (NOAA) published its Interim Final Rule revising the agency's minimum requirements for the licensing, monitoring and compliance of operations of private Earth remote sensing space systems in the Federal Register (65 FR 46822-46837). At that time, comments to the interim final rule were requested no later than September 29, 2000. Due to several requests for an extension of the public comment period, the comment period has been extended until October 30, 2000.

DATES: Comments must be received by October 30, 2000.

ADDRESSES: Comments should be sent to, Charles Wooldridge, NOAA, National Environmental Satellite, Data, and Information Service, 1335 East-West Highway, Room 7311, Silver Spring, MD 20910.

FOR FURTHER INFORMATION CONTACT: Charles Wooldridge at (301) 713-2024, ext. 207 or Karen D. Dacres, NOAA, Office of the General Counsel, Office of the Senior Counselor for Atmospheric and Space Services and Research, at (301) 713-1329, ext. 200.

Dated: September 11, 2000.
Gregory W. Withee,
Assistant Administrator for Satellite and Information Services.

[FR Doc. 00-23842 Filed 9-15-00; 8:45 am]

BILLING CODE 3510-HR-P